DEPARTMENT OF TRANSPORTATION

Federal Aviation Administration

14 CFR Part 71

[Docket FAA 2004-16896; Airspace Docket 02-ANM-08]

Proposed Revision of Class E Airspace; Blanding, UT

AGENCY: Federal Aviation Administration (FAA), DOT.

ACTION: Notice of proposed rulemaking.

SUMMARY: This proposal would revise the Class E airspace at Blanding, UT. New Area Navigation (RNAV) Global Positioning System (GPS) Standard Instrument Approach Procedures (SIAPs) have been developed at Blanding Airport making it necessary to increase the area of controlled airspace. This additional Class E airspace extending upward from 1,200 feet above the surface of the earth is necessary for the safety of Instrument Flight Rules (IFR) aircraft executing these new SIAPs and transitioning between the terminal and en route environment.

DATES: Comments must be received on or before March 4, 2004.

ADDRESSES: Send comments on this proposal to the Docket Management System, U.S. Department of Transportation, Room Plaza 401, 400 Seventh Street, SW., Washington, DC 20590-0001. You must identify Docket FAA-2004-16896; Airspace Docket 02-ANM-08, at the beginning of your comments. You may also submit comments on the Internet at http://dms.dot.gov. You may review the public docket containing the proposal, any comments received, and any final dispositions in person in the Docket Office between 9 a.m. and 5 p.m., Monday through Friday, except Federal holidays. The Docket Office (telephone number 1 (800) 647-5527) is on the plaza level of the Department of Transportation NASSIF Building at the above address.

An informal docket may also be examined during normal business hours at the Office of the Regional Air Traffic Division, Northwest Mountain Region, Federal Aviation Administration, Airspace Branch ANM-520, 1601 Lind Avenue, SW., Renton, WA 98055.

SUPPLEMENTARY INFORMATION:

Comments Invited

Interested parties are invited to participate in this proposed rulemaking by submitting written data, views, or arguments, as they may desire. Comments that provide factual basis supporting the views and suggestions presented are particularly helpful in developing reasoned regulatory decisions on the proposal. Communications should identify Docket FAA 2004-16896; Airspace Docket 02-ANM-08, and be submitted in triplicate to the address listed above. Commenters wishing the FAA to acknowledge receipt of their comments on this action must submit, with those comments, a self-addressed stamped postcard on which the following statement is made: “Comments to Docket FAA 2004-16896; Airspace Docket 02-ANM-08.” The postcard will be date/time stamped and returned to the commenter.

Availability of NPRM

An electronic copy of this document may be downloaded through the Internet at http://dms.dot.gov. Recently published rulemaking documents can also be accessed through the FAA's Web page at http://www.faa.gov or the Superintendent of Document's Web page at http://www.access.gpo.gov/nara.

Additionally, any person may obtain a copy of this notice by submitting a request to the Federal Aviation Administration, 1601 Lind Avenue, SW., Renton, WA, 98055. Communications must identify both document numbers for this notice. Persons interested in being placed on a mailing list for future NPRMs should contact the FAA's Office of Rulemaking, (202) 267-9677, to request a copy of Advisory Circular No. 11-2A, Notice of Proposed Rulemaking Distribution System, which describes the application procedures.

The Proposal

This action proposes to amend Title 14 Code of Federal Regulations, part 71 (14 CFR part 71) by revising Class E airspace at Blanding, UT. New RNAV GPS SIAPs have been developed at Blanding Airport making it necessary to increase the area of controlled airspace. This additional Class E airspace extending upward from 1,200 feet above the surface of the earth is necessary for the safety of IFR aircraft executing these new SIAPs and transitioning to/from the en route environment.

Class E airspace designations are published in Paragraph 6005 of FAA Order 7400.9L, dated September 2, 2003, and effective September 16, 2003, which is incorporated by reference in 14 CFR 71.1. The Class E airspace designation listed in this document will be published subsequently in the Order.

The FAA has determined that this proposed regulation only involves an established body of technical regulations for which frequent and routine amendments are necessary to keep them operationally current. It, therefore, (1) is not a “significant regulatory action” under Executive Order 12866; (2) is not a “significant rule” under DOT Regulatory Policies and Procedures (44 FR 11013; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9L, Airspace Designations and Reporting Points, dated September 2, 2003, and effective September 16, 2003, is amended as follows:

Paragraph 6005 Class E airspace areas extending upward from 700 feet or more above the surface of the earth.

* * * * *

ANM UT E5 Blanding, UT [Revised]

Blanding Municipal Airport, Blanding, UT

(lat. 37°34′59″ N., long. 109°29′00″ W.

That airspace extending upward from 1,200 feet above the surface of the earth bounded by a line beginning at lat. 37°42′00″ N., long. 109°42′00″ W.; to lat. 37°42′00″ N., long. 109°20′30″ W.; to lat. 37°52′18″ N., long. 108°58′58″ W.; to Dove Creek VOR (DVC); to Cortez VOR (CEZ); to lat. 36°48′30″ N., long. 108°03′30″ W.; to lat. 36°41′30″ N., long. 108°09′15″ W.; to lat. 36°55′30″ N., long. 109°16′15″ W.; to lat. 36°26′45″ N., long. 109°36′30″ W.; to lat. 36°27′30″ N., long. 109°46′45″ W.; thence to point of origin; excluding that airspace within Federal Airways airspace area and previously established Class E airspace 700 feet above the surface of the earth.

* * * * *

Issued in Seattle, Washington, on January 22, 2004.
Raul C. Treviño,
Acting Manager, Air Traffic Division, Northwest Mountain Region.

[FR Doc. 04-2194 Filed 2-2-04; 8:45 am]

BILLING CODE 4910-13-M